DEPARTMENT OF ENERGY

Federal Energy Regulatory Commission

[Docket No. RP00-282-001]

Questar Pipeline Company; Notice of Compliance Filing

July 12, 2000.

Take notice that on June 23, 2000, in response to the Commission's June 9, 2000, order in the captioned docket, Questar Pipeline Company (Questar) submitted clarifications of its May 12, 2000, tariff filing.

On May 12, 2000, Questar filed proposed tariff language to allow its Rate Schedule PKS peaking storage reservoir customers to leave working gas in place in Questar's Leroy and Coalville storage reservoirs during the summer months. By the Commission's June 9 order, Questar was directed to provide additional information and clarification of its tariff language. Questar's June 23 filing is submitted in response to the June 23 order, and is on file with the Commission.

Any person desiring to comment or protest this filing should file a comment or protest with the Federal Energy Regulatory Commission 888 First Street, NE, Washington, D.C. 20426. all such comments or protests should be filed on or before July 19, 2000. Protest must be filed in accordance with Section 385.211 of the Commission's Rules and Regulations. Protests will be considered by the Commission in determining the appropriate action to be taken, but will not serve to make protestants parties to the proceedings. Copies of this filing are on file with the Commission and are available for public inspection. This filing may also be viewed on the Internet at http://www.ferc.fed.us/online/rims.htm (call 202-208-2222 for assistance).

Linwood A. Watson, Jr.,
Acting Secretary.

[FR Doc. 00-18000 Filed 7-14-00; 8:45 am]

BILLING CODE 6717-01-M